DEPARTMENT OF ENERGY

Federal Energy Regulatory Commission

[Docket No. CP18-540-000]

Panhandle Eastern Pipe Line Company, LP; Notice of Request Under Blanket Authorization

Take notice that on August 17, 2018, Panhandle Eastern Pipe Line Company, LP (Panhandle), 1300 Main Street, Houston, Texas 77002, filed in Docket No. CP18-540-000, a Prior Notice Request pursuant to sections 157.205, and 157.216 of the Commission's regulations under the Natural Gas Act (NGA), and Panhandle's blanket certificate issued in Docket No. CP83-83-000, requesting approval to abandon by sale to ETC Field Services LLC, the Deer Loop Lateral Facilities, consisting of approximately 20.64 miles of 12.75-inch diameter pipeline and appurtenances, located in Carson, Hutchinson and Moore Counties, Texas (Deer Loop Lateral Abandonment Project).

The Deer Loop Lateral was originally constructed to transport high-pressure gas from Panhandle's Deer Compressor Station to its Sneed Compressor Station, allowing existing Deer to Sneed facilities to operate as a lower-pressure gathering system.¹ Over the years, Panhandle abandoned or spun off its facilities located upstream of the Deer Loop Lateral when Panhandle abandoned its gathering function. Available supply in the vicinity upstream of the Deer Loop Lateral has steadily declined, and in recent years, the line has transported no significant volume. On June 1, 2018, Panhandle and ETC Field Services executed an Asset Sale Agreement (Agreement) in which Panhandle agreed to sell the Deer Loop Lateral to ETC Field Services. Panhandle states that, upon Commission approval and closing of the sale, ETC Field Services will physically integrate the Deer Loop Lateral into its non-jurisdictional gathering operations. Panhandle states that authorization of the requested abandonment will allow it to avoid the operating and maintenance costs associated with these facilities and allow ETC Field Services to avoid construction of duplicative pipeline facilities and allow the continued use of existing pipeline facilities as part of its non-jurisdictional gathering system all as more fully set forth in the application which is on file with the Commission and open to public inspection. The filing may also be viewed on the web at http://www.ferc.gov using the eLibrary link. Enter the docket number excluding the last three digits in the docket number field to access the document. For assistance, please contact FERC Online Support at FERCOnlineSupport@ferc.gov or toll free at (866) 208-3676, or TTY, contact (202) 502-8659.

¹ Panhandle Eastern Pipe Line Company, 3 FERC 61,099 (1978); 6 FERC 61,180 (1978).

Any questions regarding this prior notice request may be directed to Blair Lichtenwalter, Senior Director, Certificates, Panhandle Eastern Pipe Line Company, LP, by phone at (713) 989-2605 or by email at blair.lichtenwalter@energytransfer.com or Irma S. Jarrett, Manager, Certificates, Panhandle Eastern Pipe Line Company, LP, 1300 Main Street, Houston, Texas 77002 by phone at (713) 989-7679 (telephone), or by email at irma.jarrett@energytransfer.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules (18 CFR 157.9), within 90 days of this Notice, the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters, will not receive copies of all documents filed by other parties or issued by the Commission (except for the mailing of environmental documents issued by the Commission) and will not have the right to seek court review of the Commission's final order.

The Commission strongly encourages electronic filings of comments, protests and interventions in lieu of paper using the eFiling link at http://www.ferc.gov. Persons unable to file electronically should submit an original and seven copies of the protest or intervention to the Federal Energy Regulatory Commission, 888 First Street NE, Washington, DC 20426.

Dated: August 24, 2018.
Nathaniel J. Davis, Sr.,
Deputy Secretary.

[FR Doc. 2018-18957 Filed 8-30-18; 8:45 am]

BILLING CODE 6717-01-P